FEDERAL COMMUNICATIONS COMMISSION

[FR ID 330324]

SES Performance Review Board

AGENCY: Federal Communications Commission.

ACTION: Notice.

SUMMARY: As required by the Civil Service Reform Act of 1978 (Pub. L. 95-454), Chairman Brendan Carr has appointed the following executive to the Senior Executive Service (SES) Performance Review Board (PRB):

Daniel Daly

Federal Communications Commission.
Marlene Dortch,
Secretary.

[FR Doc. 2026-02856 Filed 2-11-26; 8:45 am]

BILLING CODE 6712-01-P